ENVIRONMENTAL PROTECTION AGENCY

[EPA-HQ-OPP-2025-1906; FRL-12954-02-OCSPP]

Agency Information Collection Activities; Proposed New Collection and Request for Comment; Process To Become an EPA Qualified Conservation Program (QCP) and Qualified External Party (QEP); Draft Pesticide Registration Notice; Extension of Comment Period

AGENCY: Environmental Protection Agency (EPA).

ACTION: Notice; extension of comment period.

SUMMARY: EPA issued a notice in the Federal Register on January 5, 2026, concerning a proposed new collection and draft Pesticide Registration (PR) Notice. This document extends the comment period for 30 days, from March 2, 2026, to April 6, 2026. EPA is extending the comment period to allow interested parties additional time to thoroughly review and analyze how this notice may impact them.

DATES: Comments, identified by docket identification (ID) number EPA-HQ-OPP-2025-1906, must be received on or before April 6, 2026.

ADDRESSES: Follow the detailed instructions provided under ADDRESSES in the Federal Register document of January 5, 2026 (91 FR 273 (FRL-12954-01)).

FOR FURTHER INFORMATION CONTACT: Natalie Bray, Pesticide Registration Division (Mail Code 7505T), Office of Pesticide Programs, Environmental Protection Agency, 1200 Pennsylvania Ave. NW, Washington, DC 20460-0001; telephone number: (202) 566-2222; email address: Conservation_Programs@epa.gov.

SUPPLEMENTARY INFORMATION: This document extends the comment period for an action published on January 5, 2026. Comments for notice FRL 12954-01-OCSPP (91 FR 273, January 5, 2026) now must be received on or by April 6, 2026. That document seeks to inform interested parties of (1) the proposed process of becoming an EPA QCP or EPA QEP and to solicit public comment on the proposed process, and (2) communicate the estimated paperwork burden that this process would create for the public and to solicit public comment on these estimates pursuant to the Paperwork Reduction Act.

To submit comments, or access the docket, please follow the detailed instructions provided under ADDRESSES in the Federal Register document of January 5, 2026. If you have questions, consult the person listed under FOR FURTHER INFORMATION CONTACT.

Authority: 44 U.S.C. 3501 et seq.

Dated: February 6, 2026.
Douglas M. Troutman,
Assistant Administrator, Office of Chemical Safety and Pollution Prevention.

[FR Doc. 2026-02739 Filed 2-10-26; 8:45 am]

BILLING CODE 6560-50-P